DEPARTMENT OF TRANSPORTATION

[Docket No. DOT-OST-2024-0132]

Notice of Proposed Agency Information Collection Activities; Modification of Existing Information Collection.

AGENCY: Office of the Secretary, Department of Transportation.

ACTION: Notice and request for comments.

SUMMARY: In accordance with the requirements of the Paperwork Reduction Act of 1995, the Department of Transportation (the Department) invites public comments on a request to the Office of Management and Budget (OMB) to approve modifications to a currently approved Information Collection Request (ICR). The forms have been updated to reflect efficiencies in the application process adopted by the Department, provide clarifying information, and make the forms easier for applicants to use. The general process of applying for credit assistance is not changing; applications are still accepted on a rolling basis. The ICR continues to be necessary for the Department to evaluate projects and project sponsors for credit program eligibility and creditworthiness as required by law.

DATES: We must receive your comments on or before January 27, 2025.

ADDRESSES: All comments should reference Federal Docket Management System (FDMS) Docket No. DOT-OST-2024-0132. Interested persons are invited to submit written comments on the proposed information collection through one of the following methods:

• Federal eRulemaking Portal: http://www.regulations.gov. Follow the online instructions for submitting comments.

• Fax: 1-202-493-2251.

• Mail Delivery: Docket Management Facility, U.S. Department of Transportation, 1200 New Jersey Avenue SE, West Building, Room W12-140, Washington, DC 20590.

FOR FURTHER INFORMATION CONTACT: The Build America Bureau at BuildAmerica@dot.gov or (202) 366-2300.

SUPPLEMENTARY INFORMATION:

OMB Control Number: 2105-0569.

Title: Letter of Interest and Application Forms for the Railroad Rehabilitation and Improvement Financing and Transportation Infrastructure Financing and Innovation Act Credit Programs.

Type of Review: Modification of existing information collections.

Background: The RRIF credit program has its origins in Title V of the Railroad Revitalization and Regulatory Reform Act of 1976, 45 U.S.C. 821 et seq., which authorized the Federal Railroad Administration to provide railroads certain financial assistance. This Title V financing program was replaced by the RRIF program under section 7203 of the Transportation Equity Act for the 21st Century of 1998, Pub. L. 105-178 (1998) (TEA 21). RRIF was subsequently amended by: the Safe, Accountable, Flexible, Efficient Transportation Equity Act: A Legacy for Users, Pub. L. 109-59 (2005) (SAFETEA-LU); the Rail Safety Improvement Act of 2008, Division A of Pub. L. 110-432; the Fixing America's Surface Transportation Act (Pub. L. 114-94) (2015) (FAST Act) and the Bipartisan Infrastructure Law (BIL) (Pub. L. 117-58). All applicants for RRIF credit program assistance are required to submit a completed application. 49 U.S.C. 22403(a). The information collection activity request for the RRIF credit program application was most recently approved in 2021 (OMB Control Number 2105-0569). See 86 FR 51717 and 86 FR 33475.

The Transportation Infrastructure Finance and Innovation Act of 1998 was enacted as part of TEA 21. The TIFIA program was subsequently amended by SAFETEA-LU, the Moving Ahead for Progress in the 21st Century Act (Pub. L. 112-141) (2012) (MAP-21), the FAST Act and the Bipartisan Infrastructure Law (BIL). All applicants for TIFIA credit program assistance are required to submit a completed LOI and application. 23 U.S.C. 602(a)(1)(A). The existing information collection activity request for the TIFIA credit program letter of interest and application was most recently approved in 2021 (OMB Control Number 2105-0569). See 86 FR 51717 and 86 FR 33475.

The National Surface Transportation and Innovative Finance Bureau (referenced hereafter as the Build America Bureau or the Bureau), established by the Secretary on July 20, 2016, in accordance with the FAST Act, was created to streamline and improve access to the Department's Federal credit programs, including RRIF and TIFIA. The Bureau was made responsible for administering the application processes for the TIFIA and RRIF credit programs. To streamline and conform these application processes, the Bureau created a single LOI form and a single application form that can be used by applicants of either credit program. Both the LOI form and the application form have been updated to reflect efficiencies in the application process adopted by the Department, provide clarifying information, and make the forms easier for applicants to use. Because some key statutory differences exist between the two programs' application processes and eligibility criteria, the forms have been reorganized to clearly identify where an item of information applies only for one of the programs and need not be answered by applicants of the other program. The Department seeks OMB approval to modify the LOI and application. The forms have also been reviewed to ensure that all information requested is necessary for the Department to properly perform its functions in administering its credit programs and updated to reflect the current statutory requirements.

The LOI asks the applicant to describe, among other things, the project and its location, purpose and cost; the proposed financial plan, the status of environmental review, and certain information regarding satisfaction of other eligibility requirements under the applicable credit program. The application serves as the official request for credit and, therefore, requires the same information required of the LOI, plus detailed information about the applicant's legal and management structure, its financial health, the revenue stream pledged to repay the loan, and other information regarding satisfaction of eligibility requirements. TIFIA and RRIF credit assistance is awarded based on a project's satisfaction of TIFIA and RRIF (as applicable) eligibility requirements. The Department is authorized to prescribe the form and contents of the LOI and application. 49 U.S.C. 22403(a) and 23 U.S.C. 601(a)(6).

Respondents: State and local governments, transit agencies, government-sponsored authorities, special authorities, special districts, ports, private railroads, and certain other private entities.

Estimated Annual Number of Respondents: Based on the number and type of interested stakeholders that have contacted the Department about the RRIF and TIFIA programs in fiscal years (FY) 2021-2024, the Department estimates that it will receive, on an annual basis, twenty (20) RRIF letters of interest (LOIs), twenty (20) TIFIA LOIs, five (5) RRIF applications, and nine (9) TIFIA applications.

Estimated Total Annual Burden Hours: The Department estimates that it will generally take applicants not fewer than twenty (20) person-hours to assemble a single LOI (for either credit program) and not fewer than one hundred (100) person-hours to assemble a single application (for either credit program). (Person-hour estimates provided for a RRIF application assume that the applicant will initially submit an LOI, reducing the number of person-hours spent on the application.) Based on the anticipated annual total number of respondents, the total annual hour burden of this collection for RRIF LOIs and applications is 960 and for TIFIA LOIs and applications is 1,440 hours.

Frequency of Collection: This information collection will occur on a rolling basis as interested entities seek RRIF or TIFIA credit assistance.

Public Comments Invited: The Department invites interested respondents to comment on a proposed information collection activity (summarized below) with respect to: (i) whether the information collection activities are necessary for the Department to properly execute its functions, including whether the activities will have practical utility; (ii) the accuracy of the Department's estimates of the burden of the information collection activities, including the validity of the methodology and assumptions used to determine the estimates; (iii) ways for the Department to enhance the quality, utility, and clarity of the information being collected; and (iv) ways for the Department to minimize the burden of information collection activities on the public by automated, electronic, mechanical, or other technological collection techniques or other forms of information technology (e.g., permitting electronic submission of responses). See 44 U.S.C. 3506(c)(2)(A)(i)-(iv); 5 CFR 1320.8(d)(1)(i)-(iv). The Department believes that soliciting public comment will promote its efforts to reduce the administrative and paperwork burdens associated with the collection of information mandated by Federal regulations. In summary, the Department reasons that comments received will advance three objectives: (i) reduce reporting burdens; (ii) ensure that it organizes information collection requirements in a “user friendly” format to improve the use of such information; and (iii) accurately assess the resources expended to retrieve and produce information requested. See 44 U.S.C. 3501.

Authority: The Paperwork Reduction Act of 1995; 44 U.S.C. Chapter 35, as amended; and 49 CFR 1.48.

Duane Callender,
Executive Director (Acting), the Build America Bureau.

[FR Doc. 2024-27702 Filed 11-25-24; 8:45 am]

BILLING CODE P